DEPARTMENT OF AGRICULTURE

Grain Inspection, Packers and Stockyards Administration

[01-03-S]

Designation for the Barton (KY), Central Illinois (IL), North Dakota (ND), and Plainview (TX) Areas

AGENCY: Grain Inspection, Packers and Stockyards Administration (GIPSA).

ACTION: Notice.

SUMMARY: GIPSA announces designation of the following organizations to provide official services under the United States Grain Standards Act, as amended (Act): J. W. Barton Grain Inspection Service, Inc. (Barton); Central Illinois Grain Inspection, Inc. (Central Illinois); North Dakota Grain Inspection Service, Inc. (North Dakota); and Plainview Grain Inspection and Weighing Service, Inc. (Plainview).

EFFECTIVE DATES: April 1, 2002.

ADDRESSES: USDA, GIPSA, Janet M. Hart, Chief, Review Branch, Compliance Division, STOP 3604, Room 1647-S, 1400 Independence Avenue, SW, Washington, DC 20250-3604.

FOR FURTHER INFORMATION CONTACT: Janet M. Hart at 202-720-8525, e-mail janhart@gipsadc.usda.gov.

SUPPLEMENTARY INFORMATION: This action has been reviewed and determined not to be a rule or regulation as defined in Executive Order 12866 and Departmental Regulation 1512-1; therefore, the Executive Order and Departmental Regulation do not apply to this action.

In the September 1, 2001, Federal Register (66 FR 46254), GIPSA asked persons interested in providing official services in the geographic areas assigned to the official agencies named above to submit an application for designation. Applications were due by October 1, 2001.

Barton, Central Illinois, North Dakota, and Plainview were the sole applicants for designation to provide official services in the entire area currently assigned to them, so GIPSA did not ask for additional comments on them.

GIPSA evaluated all available information regarding the designation criteria in section 7(f)(l)(A) of the Act and, according to Section 7(f)(l)(B), determined that Barton, Central Illinois, North Dakota, and Plainview are able to provide official services in the geographic areas specified in the September 4, 2001, Federal Register, for which they applied. Interested persons may obtain official services by calling the telephone numbers listed below.

Official agency | Headquarters location and telephone | Designation start-end
Barton | Owensboro, KY; Additional Service Location: Jeffersonville, IN; 270-683-0616 | 4/01/2002-3/31/2005
Central Illinois | Bloomington, IL; Additional Service Location: Pekin, IL; 309-827-7121 | 4/01/2002-3/31/2005
North Dakota | Fargo, ND; Additional Service Locations: Enderlin and Hillsboro, ND, and Cahokia, East St. Louis, Fairfield, And Teutopolis, IL; 701-293-7420 | 4/01/2002-3/31/2005
Plainview | Plainview, TX; 806-293-1364 | 4/01/2002-3/31/2005

Authority: Pub. L. 94-582, 90 Stat. 2867, as amended (7 U.S.C. 71 et seq.).

Dated: February 25, 2002.
David R. Shipman,
Acting Administrator, Grain Inspection, Packers and Stockyards Administration.

[FR Doc. 02-4912 Filed 2-28-02; 8:45 am]

BILLING CODE 3410-EN-P